ENVIRONMENTAL PROTECTION AGENCY

[EPA-R07-SFUND-2019-0069; FRL-9990-63-Region 7]

Notice of Proposed Administrative Settlement Agreement and Covenant Not To Sue by Bona Fide Prospective Purchaser

AGENCY: Environmental Protection Agency (EPA).

ACTION: Notice; request for public comment.

SUMMARY: Notice is hereby given by the U.S. Environmental Protection Agency (EPA), Region 7, of a proposed bona fide prospective purchaser settlement agreement, embodied in an Administrative Settlement Agreement and Covenant Not to Sue, with Soulard Second Street, L.L.C. This agreement pertains to a portion of the former John F. Queeny-Monsanto Chemical Works property located at 200 Russell Boulevard in St. Louis, Missouri.

DATES: Comments must be received on or before April 11, 2019.

ADDRESSES: The proposed settlement agreement is available for public inspection at EPA Region 7's office. A copy of the proposed agreement may also be obtained from Mr. Bruce Morrison, EPA Region 7, 11201 Renner Boulevard, Lenexa, Kansas 66219, telephone number (913) 551-7755. You may send comments, identified by Docket ID No. EPA-R07-SFUND-2019-0069 to https://www.regulations.gov. Follow the online instructions for submitting comments. You may also send comments, identified by John F. Queeny-Monsanto Chemical Works facility, 200 Russell Boulevard, St. Louis, Missouri 63106 to Mr. Morrison at the above address or electronically to morrison.bruce@epa.gov.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Alex Chen, Senior Counsel, Office of Regional Counsel, Environmental Protection Agency Region 7, 11201 Renner Boulevard, Lenexa, Kansas 66219; telephone number (913) 551-7962; email address chen.alex@epa.gov.

SUPPLEMENTARY INFORMATION:

Written Comments

Submit your comments, identified by Docket ID No. EPA-R07-SFUND-2019-0069 at https://www.regulations.gov. Once submitted, comments cannot be edited or removed from Regulations.gov. The EPA may publish any comment received to its public docket. Do not submit electronically any information you consider to be Confidential Business Information (CBI) or other information whose disclosure is restricted by statute. If CBI exists, please contact Mr. Bruce Morrison. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Notice is hereby given by the U.S. Environmental Protection Agency, Region 7, of a proposed bona fide prospective purchaser settlement agreement, embodied in an Administrative Settlement Agreement and Covenant Not to Sue, with Soulard Second Street, L.L.C. This agreement pertains to a portion of the former John F. Queeny-Monsanto Chemical Works property located at 200 Russell Boulevard in St. Louis, Missouri. Soulard Second Street, L.L.C. agrees to purchase the property to build a new commercial or industrial building and perform a response action. This project will result in a formerly contaminated property being restored to beneficial use.

The settlement includes a covenant by EPA not to sue or take administrative action against Soulard Second Street, L.L.C. pursuant to Sections 106 and 107(a) of CERCLA for Existing Contamination, as that term is defined in the settlement agreement. For thirty (30) days following the date of publication of this notice, EPA will receive written comments relating to the settlement. EPA will consider all comments received and may modify or withdraw its consent to the settlement agreement if comments received disclose facts or considerations that indicate that the proposed settlement is inappropriate, improper, or inadequate. EPA's response to any comments received will be available for public inspection at EPA Region 7, 11201 Renner Boulevard, Lenexa, Kansas 66219.

Dated: March 5, 2019.
Mary P. Peterson,
Director, Superfund Division, EPA Region 7.

[FR Doc. 2019-04500 Filed 3-11-19; 8:45 am]

BILLING CODE 6560-50-P